DEPARTMENT OF HEALTH AND HUMAN SERVICES

Centers for Disease Control and Prevention

[30Day-15-14AYC]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Behavioral Risk Factor Surveillance System (BRFSS)—Existing Collection Without an OMB Control Number—National Center for Chronic Disease Prevention and Health Promotion (NCCDPHP)—Centers for Disease Control and Prevention (CDC).

Background and Brief Description

CDC is requesting OMB approval to conduct information collection for the Behavioral Risk Factor Surveillance System (BRFSS) for three years beginning with the 2015 data collection cycle. The BRFSS is a nationwide system of customized, cross-sectional telephone health surveys sponsored by CDC. Information collection is conducted in a continuous, three-part telephone interview process: screening, participation in a common BRFSS core survey, and participation in optional question modules that states use to customize survey content. BRFSS coordinators in health departments in U.S. states, territories, and the District of Columbia (collectively referred to as states) are responsible for questionnaire content and survey administration. CDC provides the states with technical and methodological assistance.

The BRFSS produces state-level information on adults 18 years and older primarily on the health risk behaviors, health conditions, and preventive health practices that are associated with chronic diseases, infectious diseases, and injury. This information is used by state and local health departments to plan and evaluate public health programs at the state or sub-state level. For most states and territories, the BRFSS provides the only source of data amenable to state and local level health and health risk indicators.

Information collected through the BRFSS is also used by the federal government and other entities. CDC makes annual BRFSS data sets available for public use and provides guidance on statistically appropriate uses of the data. CDC's authority to collect this information is provided by the Public Health Service Act. Participation in the BRFSS is voluntary and there are no costs to respondents other than their time. The total estimated annualized burden hours are 255,915.

Estimated Annualized Burden Hours
Type of respondents | Form name | Number of respondents | Number of responses per respondent | Average burden per response (in hr)
U.S. General Population | Landline Screener Cell Phone Screener | 440,486 223,334 | 1 1 | 1/60 1/60
Adults ≥ 18 Years | BRFSS Core Survey BRFSS Optional Modules | 494,650 484,757 | 1 1 | 15/60 15/60

Leroy A. Richardson,
Chief, Information Collection Review Office, Office of Scientific Integrity, Office of the Associate Director for Science, Office of the Director, Centers for Disease Control and Prevention.

[FR Doc. 2015-00562 Filed 1-15-15; 8:45 am]

BILLING CODE 4163-18-P